DEPARTMENT OF ENERGY

Federal Energy Regulatory Commission

[Project No. 1940-022]

Wisconsin Public Service Corporation; Notice of Request for Extension of License Term and Soliciting Comments, Motions To Intervene, and Protests

April 29, 2009.

Take notice that the following hydroelectric application has been filed with the Commission and is available for public inspection:

a. Application Type: Amendment of License.

b. Project No.: 1940-022.

c. Date Filed: April 22, 2009.

d. Applicant: Wisconsin Public Service Corporation.

e. Name and Location of Project: Tomahawk Hydroelectric Project is located on the Wisconsin River, near Tomahawk, Lincoln County, Wisconsin.

f. Filed Pursuant to: Federal Power Act, 16 U.S.C. 791a-825r.

g. Applicant Contacts: Greg Egtvedt, (920) 433-5713, gwegtvedt@integrysgroup.com or Terry P. Jensky, Vice President—Energy Supply Operations, (920) 433-5713, tpjensky@wisconsinpublicservice.com, Wisconsin Public Service Corporation, 700 North Adams Street, P.O. Box 19001, Green Bay, WI 54307-9001.

h. FERC Contact: Diane M. Murray at (202) 502-8838.

i. Deadline for filing comments, protests, and motions to intervene: May 29, 2009.

All documents should be filed with Kimberly Bose, Secretary, Federal Energy Regulatory Commission, 888 First Street, NE., Washington, DC 20426. Comments, protests, and interventions should be filed electronically via the Internet in lieu of paper. See 18 CFR 385.2001(a)(1)(iii) and the instructions on the Commission's Web site under the “e-Filing” link. The Commission strongly encourages electronic filings; otherwise, submit an original and eight copies of your response to the address above. Please include the Project Number (P-1940) on any comments, protests, or motions filed.

The Commission's Rules of Practice and Procedure require all intervenors filing a document with the Commission to serve a copy of that document on each person in the official service list for the project. Further, if an intervenor files comments or documents with the Commission relating to the merits of an issue that may affect the responsibilities of a particular resource agency, they must also serve a copy of the documents on that resource agency.

j. Description of Application: The licensee requests that the Commission amend its license term for the Tomahawk Project by extending it by 15 months, to coincide with the expiration of the license for the Grandfather Falls Project on April 1, 2018.

k. This filing is available for review at the Commission in the Public Reference Room or may be viewed on the Commission's Web site at http://www.ferc.gov using the eLibrary link. Enter the docket number (P-1940) in the docket number field to access the document. For assistance, call toll-free 1-866-208-3676 or e-mail FERCOnlineSupport@ferc.gov. For TTY, call (202) 502-8659. A copy is also available for inspection and reproduction at the addresses in item g. above.

l. Individuals desiring to be included on the Commission's mailing list should so indicate by writing to the Secretary of the Commission.

m. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

n. Filing and Service of Responsive Documents—Any filings must bear in all capital letters the title “COMMENTS”, “PROTEST”, or “MOTION TO INTERVENE”, as applicable, and the Project Number of the particular application to which the filing refers. A copy of any motion to intervene must also be served upon each representative of the Applicant specified in the particular application.

o. Agency Comments—Federal, state, and local agencies are invited to file comments on the described application. A copy of the application may be obtained by agencies directly from the Applicant. If an agency does not file comments within the time specified for filing comments, it will be presumed to have no comments. One copy of an agency's comments must also be sent to the Applicant's representative.

Kimberly D. Bose,
Secretary.

[FR Doc. E9-10404 Filed 5-5-09; 8:45 am]

BILLING CODE 6717-01-P